DEPARTMENT OF HEALTH AND HUMAN SERVICES

National Institutes of Health

National Cancer Institute; Notice of Meetings

Pursuant to section 10(a) of the Federal Advisory Committee Act, as amended (5 U.S.C. App.), notice is hereby given of meetings of the National Cancer Institute Clinical Trials and Translational Research Advisory Committee.

The meetings will be open to the public, with attendance limited to space available. Individuals who plan to attend and need special assistance, such as sign language interpretation or other reasonable accommodations, should notify the Contact Person listed below in advance of the meeting.

Name of Committee: National Cancer Institute Clinical Trials and Translational Research Advisory Committee.

Date: June 18, 2014.

Time: 4 p.m. to 5 p.m.

Agenda: Review of the CTAC Small Cell Lung Cancer (SCLC) Working Group's Report.

Place: National Cancer Institute Shady Grove, Shady Grove, 9609 Medical Center Drive, 6 West—CCCT Huddle, Rockville, MD 20892 (Virtual Meeting).

Go To: https://cbiit.webex.com/cbiit/j.php?MTID=mb9db8379b9faf5ef42f384b469c5ebdb.

Meeting Password—Tim@l1ne.

Meeting Number—730 501 868.

AUDIO CONNECTION

1. Provide your number when you join the meeting to receive a call back. Alternatively, you can call one of the following numbers: Dial In Number: 1-240-276-6338.

2. Follow the instructions that you hear on the phone. Your Cisco Unified Meeting Place meeting ID: 730 501 868.

Contact Person: Sheila A. Prindiville, MD, MPH, Director, Coordinating Center for Clinical Trials, National Institutes of Health, National Cancer Institute, Coordinating Center for Clinical Trials, 9609 Medical Center Drive Room 6W136, Rockville, MD 20850, 240-276-6173, prindivs@mail.nih.gov.

Name of Committee: Clinical Trials Strategic Planning Subcommittee, National Cancer Institute Clinical Trials and Translational Research Advisory Committee.

Date: July 8, 2014.

Time: 2 p.m. to 3 p.m.

Agenda: Review the final report of the NCI National Clinical Trials Network Working Group.

Place: National Cancer Institute Shady Grove, 6West CCCT Huddle Room, 9609 Medical Center Drive, Rockville, MD 20850 (Teleconference), 1-866-652-9542, Password: 4596704.

Contact Person: Sheila A. Prindiville, MD, MPH, Director, Coordinating Center for Clinical Trials, National Institutes of Health, National Cancer Institute, 9609 Medical Center Drive Room 6W136 Rockville, MD 20850, 240-276-6173, prindivs@mail.nih.gov.

Any interested person may file written comments with the committee by forwarding the statement to the Contact Person listed on this notice. The statement should include the name, address, telephone number and when applicable, the business or professional affiliation of the interested person.

Information is also available on the Institute's/Center's home page: http://deainfo.nci.nih.gov/advisory/ctac/ctac.htm, where agendas and any additional information for the meetings will be posted when available.

(Catalogue of Federal Domestic Assistance Program Nos. 93.392, Cancer Construction; 93.393, Cancer Cause and Prevention Research; 93.394, Cancer Detection and Diagnosis Research; 93.395, Cancer Treatment Research; 93.396, Cancer Biology Research; 93.397, Cancer Centers Support; 93.398, Cancer Research Manpower; 93.399, Cancer Control, National Institutes of Health, HHS)

Dated: May 5, 2014.
Melanie J. Gray,
Program Analyst, Office of Federal Advisory Committee Policy.

[FR Doc. 2014-10608 Filed 5-7-14; 8:45 am]

BILLING CODE 4140-01-P